DEPARTMENT OF JUSTICE

Bureau of Alcohol, Tobacco, Firearms and Explosives

[OMB 1140-0015]

Agency Information Collection Activities; Proposed eCollection of eComments Requested; Application for Tax Exempt Transfer and Registration of Firearm—ATF Form 5 (5320.5)

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The information collection (IC) OMB 1140-0015 (Application for Tax Exempt Transfer and Registration of Firearm—ATF Form 5 (5320.5)) is being revised to include additional questions and grammar changes. The proposed IC is also being published to obtain comments from the public and affected agencies.

DATES: Comments are encouraged and will be accepted for 60 days until June 16, 2023.

FOR FURTHER INFORMATION CONTACT: If you have additional comments regarding the estimated public burden or associated response time, suggestions, or need a copy of the proposed information collection instrument with instructions, or additional information, contact: Connor Brandt, National Firearms Act Division either by mail at 244 Needy Road, Martinsburg, WV 25405, by email at nfaombcomments@atf.gov, or by telephone at 304-616-3175.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection (check justification or form 83): Revision of a currently approved collection.

(2) The Title of the Form/Collection: Application for Tax Exempt Transfer and Registration of Firearm.

(3) The agency form number, if any, and the applicable component of the Department sponsoring the collection:

Form number (if applicable): ATF Form 5 (5320.5).

Component: Bureau of Alcohol, Tobacco, Firearms and Explosives, U.S. Department of Justice.

(4) Affected public who will be asked or required to respond, as well as a brief abstract:

Primary: Federal Government and State, local or Tribal government.

Other (if applicable): Individuals or households, business or other for-profit, not-for-profit institutions, and farms.

Abstract: The Application for Tax Exempt Transfer and Registration of Firearm—ATF Form 5 (5320.5) is used request permission to transfer and register a National Firearms Act (NFA) firearm, and to claim exemption from the transfer tax.

(5) An estimate of the total number of respondents and the amount of time estimated for an average respondent to respond: An estimated 10,591 respondents will respond to this collection once annually, and it will take each respondent approximately .5052 hours (30.309 minutes) to complete their responses.

(6) An estimate of the total public burden (in hours) associated with the collection: The estimated annual public burden associated with this collection is 5,350 hours, which is equal to 10,591 (total respondents) * 1 (# of response per respondent) * .5052 hours (30.309 minutes or the time taken to prepare each response).

If additional information is required contact: John Carlson, Department Clearance Officer, Policy and Planning Staff, Office of the Chief Information Officer, United States Department of Justice, Justice Management Division, Two Constitution Square, 145 N Street NE, Mail Stop 3.E-206, Washington, DC 20530.

Dated: April 11, 2023.
John Carlson,
Department Clearance Officer, Policy and Planning Staff, U.S. Department of Justice.

[FR Doc. 2023-07981 Filed 4-14-23; 8:45 am]

BILLING CODE 4410-FY-P